DEPARTMENT OF EDUCATION

Applications for New Awards; Gaining Early Awareness and Readiness for Undergraduate Programs (Partnership Grants)

AGENCY: Office of Postsecondary Education, Department of Education.

ACTION: Notice.

Overview Information: Gaining Early Awareness and Readiness for Undergraduate Programs (GEAR UP); Notice inviting applications for new awards for fiscal year (FY) 2017.

Catalog of Federal Domestic Assistance (CFDA) Number: 84.334A.

DATES:

Applications Available: March 10, 2017.

Deadline for Transmittal of Applications: April 19, 2017.

Deadline for Intergovernmental Review: June 19, 2017.

Full Text of Announcement

I. Funding Opportunity Description

Purpose of Program: The GEAR UP Program is a discretionary grant program that provides funding for academic and related support services to eligible low-income students, including students with disabilities and English learners, to help them to obtain a secondary school diploma and to prepare for and succeed in postsecondary education. Under the GEAR UP Program, the Department awards grants to two types of entities: (1) States and (2) partnerships comprised, at minimum, of institutions of higher education (IHEs) and local educational agencies (LEAs).

SUPPLEMENTARY INFORMATION: In this notice we invite applications for partnership grants only. We will invite applications for State grants in another notice. Required services under the GEAR UP Program are specified in sections 404D(a) of the Higher Education Act of 1965, as amended (HEA) (20 U.S.C. 1070a-24(a)), and permissible services under the GEAR UP Program are specified in section 404D(b) of the HEA (20 U.S.C. 1070a-24(b)). For partnership grantees, services must include providing financial aid information, encouraging enrollment in challenging coursework in order to reduce the need for remediation at the postsecondary level, implementing activities to improve the number of students who obtain a high school diploma and complete applications for and enroll in a program of postsecondary education. GEAR UP funds may also be used to provide a number of additional support services such as mentoring, tutoring, academic English language development, academic and career counseling, and exposure to college campuses, and provision of scholarships as specified in section 404E of the HEA.

Background

The GEAR UP Program is a critical component of the Department's efforts to improve college access and completion for students who have been traditionally underrepresented in postsecondary education. The Department believes that GEAR UP projects can play an essential role in improving postsecondary outcomes of their participants by placing a greater emphasis on increasing readiness for success once students reach the postsecondary level.

Each year, rather than being able to enroll in entry-level general education courses in subject areas such as reading or math that are required as a part of almost any postsecondary program of study, hundreds of thousands of beginning college students are referred to noncredit-bearing “developmental” or “remedial” courses based on their performance on a placement test or academic reference. Remedial or developmental courses are designed to bring academically underprepared students to expected competency levels for college-level work.

Remediation needs are common at all types of colleges. According to recent National Center for Education Statistics (NCES) research, 68 percent of public two-year students and 40 percent of public four-year students who began their postsecondary education in 2003 took at least one remedial course by 2009.¹ Remedial course-taking rates are higher among some subgroups of students, including African American students, Hispanic students, students from low-income families, and first-generation students.²

¹ http://nces.ed.gov/pubs2016/2016405.pdf.

² http://nces.ed.gov/pubs2016/2016405.pdf.

Unfortunately, for too many students remedial education represents a barrier to postsecondary persistence and completion.³ While in remediation, students spend time and money, may accumulate debt, add to their opportunity costs of lost earnings, and in some cases, deplete a significant portion of their eligibility for financial aid. Further, available evidence suggests that participation in remedial education, especially longer sequences of remedial courses, generally does not improve outcomes; on the contrary, data show that students who take remedial education courses are more likely to drop out before completing a degree.⁴ Remedial education also carries significant costs to the Federal government and to States, in addition to the costs borne by students and families.

³ MDRC, Unlocking the Gate: What We Know About Improving Developmental Education, June 2011 (www.mdrc.org/sites/default/files/full_595.pdf).

⁴ Attewell, P.A., Lavin, D.E., Domina, T., & Levey, T., 2006, New Evidence on College Remediation, The Journal of Higher Education. (www.jstor.org/stable/3838791 (even after controlling for high school preparation and family background, taking developmental courses reduced the chances of graduation at four-year colleges and universities by 6 to 7 percent). Thomas Bailey, Dong Wook Jeong, Sung-Woo Cho, Referral, Enrollment, and Completion in Developmental Education Sequences in Community Colleges, Community College Research Center, Working Paper No. 15, November 2009 (http://ccrc.tc.columbia.edu/media/k2/attachments/referral-enrollment-completion-developmental.pdf). Nguyen Barry, M. & Dannenberg, M., 2016, The high cost of inadequate high schools and high school student achievement on college affordability, Retrieved from https://edreformnow.org/wp-content/uploads/2016/04/EdReformNow-O-O-P-Embargoed-Final.pdf.

GEAR UP grantees can improve college readiness by identifying at an early age students likely to be referred to remediation at the postsecondary level and by engaging in strategies to address their needs at the secondary level, limiting their need to take remedial courses in college. For these reasons, this notice includes a competitive preference priority intended to encourage applicants to propose GEAR UP projects that address remediation strategies designed to help students address deficiency gaps well before they graduate and enroll in postsecondary education.

In addition, to more strategically align GEAR UP grants with broader reform strategies intended to improve postsecondary access and completion, this notice includes a competitive preference priority that encourages applicants to propose activities that are supported by moderate evidence of effectiveness (as defined in this notice). The Department is particularly interested in receiving applications that include plans to provide services for students, supported by evidence, that increase the likelihood that students will complete high school and enroll in and complete a program of postsecondary education.

Priorities: This notice contains two competitive preference priorities. In accordance with 34 CFR 75.105(b)(2)(iv), Competitive Preference Priority 1 is from section 404Aa(1)(B) of the HEA (20 U.S.C. 1070a-21(a)(1)(B))). In accordance with 34 CFR 75.105(b)(2)(ii), Competitive Preference Priority 2 is from 34 CFR 75.226.

Competitive Preference Priority 1: For FY 2017 and any subsequent year in which we make awards from the list of unfunded applications from this competition, this priority is a competitive preference priority. Under 34 CFR 75.105(c)(2)(i), we award up to five additional points to an application, depending on how well the application meets this priority.

This priority is:

Projects designed to reduce the need for remedial education for secondary school students, including students with disabilities, at the postsecondary level.

Note: GEAR UP projects begin well before participating students are ready to apply for admission to a postsecondary institution. Therefore, as they consider how to respond to this competitive preference priority, we encourage applicants to think about how their projects will determine throughout the project period what services students will need in order to reduce or eliminate their need for remedial education at the postsecondary level. In addition, we encourage all applicants applying for a seventh project year to think about how the services they would provide during a seventh project year will include strategies to help those new postsecondary-level students progress into college-level coursework.

Competitive Preference Priority 2: For FY 2017 and any subsequent year in which we make awards from the list of unfunded applications from this competition, this priority is a competitive preference priority. Under 34 CFR 75.105(c)(2)(i), we award two points to an application that meets this priority.

This priority is:

Projects designed to implement at least one strategy supported by evidence of effectiveness that meets the conditions set out in the definition of “moderate evidence of effectiveness” in 34 CFR 77.1(c) (and as defined in this notice).

To address the priority, an applicant may submit up to two studies that it believes supports the implementation of an authorized activity proposed in the application that meets the moderate evidence of effectiveness standard. The Department will review the studies cited by the applicant to determine if they meet the requirements for moderate evidence of effectiveness (which, depending on methodology, may require reference to either one or two studies), as well as whether they are sufficiently aligned with the project proposed.

Cited studies may include both those already listed in the Department's What Works Clearinghouse (WWC) Database of Individual Studies (see http://ies.ed.gov/ncee/wwwc/ReviewedStudies#/OnlyStudiesWithPositiveEffects:false.SetNumber:1) and those that have not yet been reviewed by the WWC. Studies listed in the WWC Database of Individual Studies do not necessarily satisfy any or all of the criteria needed to meet the moderate evidence of effectiveness standard. Therefore, it is important that applicants themselves ascertain the suitability of the study for the evidence priority. Competitive preference priority points can only be awarded if the study or studies submitted by the applicant meet the Department standard for moderate evidence of effectiveness and if the study or studies cited relevant to the proposed project. The proposed study or studies must be cited in the section of the application that addresses competitive preference priority two.

Note: As they consider the activities they propose to implement in their GEAR UP projects and how to respond to this competition preference priority, we encourage applicants to review research related to authorized GEAR UP activities to identify evidence that meets the moderate evidence of effectiveness standard.

For Partnership grantees, required GEAR UP services are specified in section 404D(a) of the HEA (20 U.S.C. 1070a-24(a), and permissible services under the GEAR UP Program are specified in section 404(D)(b) of the HEA (20 U.S.C. 1070a-24(b).

Definitions: These definitions are from 34 CFR 77.1.

Evidence of Promise means there is empirical evidence to support the theoretical linkage(s) between at least one critical component and at least one relevant outcome presented in the logic model for the proposed process, product, strategy, or practice. Specifically, evidence of promise means the conditions in both paragraphs (i) and (ii) of this definition are met:

(i) There is at least one study that is a

(A) Correlational study with statistical controls for selection bias;

(B) Quasi-experimental design (QED) study that meets the What Works Clearinghouse Evidence Standards with reservations; or

(C) Randomized controlled trial (RCT) that meets the What Works Clearinghouse Evidence Standards with or without reservations.

(ii) The study referenced in paragraph (i) of this definition found a statistically significant or substantively important (defined as a difference of 0.25 standard deviations or larger) favorable association between at least one critical component and one relevant outcome presented in the logic model for the proposed process, product, strategy, or practice.

Large Sample means an analytic sample of 350 or more students (or other single analysis units), or 50 or more groups (such as classrooms or schools) that contain 10 or more students (or other single analysis units).

Moderate evidence of effectiveness means one of the following conditions is met:

(i) There is at least one study of the effectiveness of the process, product, strategy, or practice being proposed that meets the WWC Evidence Standards without reservations, found a statistically significant favorable impact on a relevant outcome (with no statistically significant and overriding unfavorable impacts on that outcome for relevant populations in the study or in other studies of the intervention reviewed by and reported on by the WWC), and includes a sample that overlaps with the populations or settings proposed to receive the process, product, strategy, or practice.

(ii) There is at least one study of the effectiveness of the process, product, strategy, or practice being proposed that meets the WWC Evidence Standards with reservations, found a statistically significant favorable impact on a relevant outcome (with no statistically significant and overriding unfavorable impacts on that outcome for relevant populations in the study or in other studies of the intervention reviewed by and reported on by the WWC), includes a sample that overlaps with the populations or settings proposed to receive the process, product, strategy, or practice, and includes a large sample and a multi-site sample.

Note: Multiple studies can cumulatively meet the large and multi-site sample requirements as long as each study meets the other requirements in this paragraph.

Multi-site sample means more than one site, where site can be defined as an LEA, locality, or State.

QED means a study using a design that attempts to approximate an experimental design by identifying a comparison group that is similar to the treatment group in important respects. These studies, depending on design and implementation, can meet What Works Clearinghouse Evidence Standards with reservations (but not What Works Clearinghouse Evidence Standards without reservations).

RCT means a study that employs random assignment of, for example, students, teachers, classrooms, schools, or districts to receive the intervention being evaluated (the treatment group) or not to receive the intervention (the control group). The estimated effectiveness of the intervention is the difference between the average outcomes for the treatment group and for the control group. These studies, depending on design and implementation, can meet What Works Clearinghouse Evidence Standards without reservations.

Relevant outcome means the student outcome(s) (or the ultimate outcome if not related to students) the proposed process, product, strategy, or practice is designed to improve; consistent with the specific goals of a program.

WWC Evidence Standards means the standards set forth in the WWC Procedures and Standards Handbook (Version 3.0, March 2014), which can be found at the following link: http://ies.ed.gov/ncee/wwc/DocumentSum.aspx?sid=19.

Program Authority: 20 U.S.C. 1070a-21-1070a-28.

Applicable Regulations: (a) The Education Department General Administrative Regulations (EDGAR) in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 694.

Note: The regulations in 34 CFR part 86 apply to IHEs only.

II. Award Information

Type of Award: Discretionary grants.

Estimated Available Funds: The Administration has requested $322,754,000 for the GEAR UP Program for FY 2017, of which we intend to use an estimated $49,000,000 for new GEAR UP awards. The estimated funding available for the new GEAR UP Partnership awards is $24,500,000. The actual level of funding, if any, depends on final congressional action. However, we are inviting applications to allow enough time to complete the grant process if Congress appropriates funds for this program.

Contingent upon the availability of funds and the quality of applications, we may make additional awards in FY 2018 and subsequent years from the list of unfunded applications from this competition.

Estimated Range of Awards: $100,000-$7,000,000.

Estimated Average Size of Awards: $1,200,000.

Maximum Award: We will not fund any application for a partnership grant above the maximum award of $800 per student for a single budget period of 12 months. Additionally, no funding will be awarded for increases in an approved budget after the first 12-month budget period. The Assistant Secretary for Postsecondary Education may change the maximum amounts through a notice published in the Federal Register.

Estimated Number of Awards: Twenty.

Project Period: Either 72 months or 84 months.

Note: An applicant that wishes to seek funding for a seventh project year (i.e., for a project period greater than 72 months), in order to provide project services to GEAR UP students through their first year of attendance at an IHE, must propose to do so in the application provided in response to this notice.

III. Eligibility Information

1. Eligible Applicants: Partnerships consisting of (a) one or more LEA, and (b) one or more degree granting IHEs. Partnerships may also contain not less than two other community organizations or entities, such as businesses, professional organizations, State agencies, institutions or agencies sponsoring programs authorized under the Leveraging Educational Assistance Partnership Program authorized in part A, subpart 4, of title IV of the HEA (20 U.S.C. 1070c et seq.), or other public or private agencies or organizations.

2.a. Cost Sharing or Matching: Section 404C(b)(1) of the HEA requires grantees under this program to provide from State, local, institutional, or private funds, not less than 50 percent of the cost of the program (or $1 of non-Federal funds for every $1 of Federal funds awarded), which may be provided in cash or in-kind. The provision also specifies that the match may be accrued over the full duration of the grant award period, except that the grantee must make substantial progress towards meeting the matching requirement in each year of the award period. In-kind contributions may include equipment and supplies, cash contributions from non-Federal sources, discounted program services and facility usage. Section 404C(c) of the HEA provides that in-kind contributions may include (1) financial assistance obligated under GEAR UP to students from State, local, institutional, or private funds, (2) the amount of tuition, fees, room or board waived or reduced for recipients of financial assistance under GEAR UP, (3) the amount expended on documented, targeted, long-term mentoring and counseling provided by volunteers or paid staff of non-school organizations, including businesses, religious organizations, community groups, postsecondary educational institutions, nonprofit and philanthropic organizations, and other organizations, and (4) equipment and supplies, cash contributions from non-Federal sources, transportation expenses, in-kind or discounted program services, indirect costs, and facility usage.

Section 404C(b)(2) further provides that the Secretary may approve a partnership's request for a reduced match percentage at the time of application if the partnership demonstrates significant economic hardship that precludes the partnership from meeting the matching requirement, or if the partnership requests that contributions to the scholarship fund be matched on the basis of two non-Federal dollars for every one Federal dollar of GEAR UP funds. Regulations that address the content of an applicant's request for such a reduced match, and the maximum percentage match that the Secretary may waive, are identified in 34 CFR 694.8(a)-(c). In addition, the Secretary may approve a reduction in match of up to 70% upon request from a partnership that includes three or fewer IHEs as members, and (a) has a fiscal agent identified in 34 CFR 694.8(d)(1), and (b) serves students in schools and LEAs that meet the poverty criteria identified in 34 CFR 694.8(d)(2) and (3).

b. Supplement-Not-Supplant: This program involves supplement-not-supplant funding requirements. Under section 404B(e) of the HEA (20 U.S.C. 1070a-22)), grant funds awarded under this program must be used to supplement, and not supplant, other Federal, State, and local funds that would otherwise be expended to carry out activities assisted under this program.

IV. Application and Submission Information

1. Address to Request Application Package: You can obtain an application package via the Internet by downloading the package from the program Web site at: http://www2.ed.gov/programs/gearup/index.html.

You also can request a copy of the application package from the following: Karmon Simms-Coates, Gaining Early Awareness and Readiness for Undergraduate Programs, U.S. Department of Education, 400 Maryland Avenue SW., Room 5W250, Washington, DC 20202-6450. Telephone: (202) 453-7917 or by email: karmon.simms-coates@ed.gov.

If you use a telecommunications device for the deaf (TDD) or a text telephone (TTY), call, toll free: 1-877-576-7734.

Individuals with disabilities can obtain a copy of the application package in an accessible format (e.g., Braille, large print, audiotape, or compact disc) by contacting the program contact person listed in this section.

2. Content and Form of Application Submission: Requirements concerning the content of an application, together with the forms you must submit, are in the application package for this program.

Page Limit: The application narrative is where you, the applicant, address the selection criteria that reviewers use to assess your application. There is a limit for the application narrative of no more than 40 pages using the following standards:

• A “page” is 8.5″ x 11″, on one side only, with 1″ margins at the top, bottom, and both sides. Page numbers and an identifier may be within the 1″ margin.

• Each page on which there is text or graphics will be counted as one full page.

• Double space (no more than three lines per vertical inch) all text in the application narrative, including charts, tables, figures, and graphs. Titles, headings, footnotes, quotations, references, and captions may be singled spaced.

• Use a font that is either 12 point or larger, or no smaller than 10 pitch (characters per inch).

• Use one of the following fonts: Times New Roman, Courier, Courier New, or Arial. An application submitted in any other font (including Times Roman and Arial Narrow) will not be accepted.

The page limits do not apply to the cover sheet; the budget section, including the budget narrative and summary form; the assurances and certifications; or the one-page abstract. If you include any attachments or appendices not specifically requested and required for the application, these items will be counted as part of the narrative for the purposes of the page limit.

Any application addressing the competitive preference priorities may include up to four additional pages for each priority. These additional pages must be used to discuss how the application meets the competitive preference priority. The additional pages allotted to address the competitive preference priority cannot be used for or transferred to the project narrative or any other section of the application.

We will reject your application if—

• You apply these standards and exceed the page limit; or

• You apply other standards and exceed the equivalent of the page limit.

3. Submission Dates and Times:

Applications Available: March 10, 2017.

Deadline for Transmittal of Applications: April 19, 2017.

Applications for grants under this program must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the program contact person listed under FOR FURTHER INFORMATION CONTACT in section VII of this notice. If the Department provides an accommodation or auxiliary aid to an individual with a disability in connection with the application process, the individual's application remains subject to all other requirements and limitations in this notice.

Deadline for Intergovernmental Review: June 19, 2017.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this program must be submitted electronically unless you qualify for an exception to this requirement in accordance with the instructions in this section.

a. Electronic Submission of Applications.

Applications for grants under the GEAR UP Program, CFDA number 84.334A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the GEAR UP Program at www.Grants.gov. You must search for the downloadable application package for this program by the CFDA number. Do not include the CFDA number's alpha suffix in your search (e.g., search for 84.334, not 84.334A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications.

• You must upload any narrative sections and all other attachments to your application as files in a read-only, non-modifiable Portable Document Format (PDF). Do not upload an interactive or fillable PDF file. If you upload a file type other than a read-only, non-modifiable PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department then will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the program contact person listed under FOR FURTHER INFORMATION CONTACT in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through Grants.gov because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Eileen Bland, U.S. Department of Education, 400 Maryland Avenue SW., Room 5C135, Washington, DC 20202-6450. Fax: (202) 260-7464.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.334A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.334A, 550 12th Street SW., Room 7039, Potomac Center Plaza, Washington, DC 20202-4260.

The Application Control Center accepts hand deliveries daily between 8:00 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this competition are from 34 CFR 75.210 of EDGAR.

a. Need for the project (15 points).

The Secretary evaluates the need for a GEAR UP project in the proposed target area on the basis of—

• The magnitude or severity of the problem to be addressed by the proposed project; and

• The extent to which specific gaps or weaknesses in services, infrastructure, or opportunities have been identified and will be addressed by the proposed project, including the nature and magnitude of those gaps or weaknesses.

b. Quality of project design (15 points).

In determining the quality of project design, the Secretary considers the following factors:

• The extent to which the goals, objectives, and outcomes to be achieved by the proposed project are clearly specified and measurable;

• The extent to which the project design reflects up-to-date research and the replication of effective practices;

• The extent to which the project supports systemic changes from which future cohorts of students will benefit; and

• The extent to which the proposed project is supported by strong theory.

c. Quality of project services (15 points).

In determining the quality of project services provided by the proposed project, the Secretary considers:

(1) The quality and sufficiency of strategies for ensuring equal access and treatment for eligible project participants who are members of groups that have traditionally been underrepresented based on race, color, national origin, gender, age, or disability.

(2) In addition, the Secretary considers the following factors:

• The extent to which the project services are likely to increase the percentage of students taking rigorous courses that reflect challenging academic standards and reduce the need for remedial education at the postsecondary level; increase the percentage of secondary school completion; increase students' knowledge of and access to financial assistance for postsecondary education; increase the percentage of students enrolling and succeeding in postsecondary education; and are appropriate to the needs of the intended recipients or beneficiaries of those services; and

• The extent to which the services to be provided by the proposed project involve the collaboration of appropriate partners for maximizing the effectiveness of project services.

d. Quality of project personnel (10 points).

In determining the quality of project personnel, the Secretary considers:

(1) The extent to which the applicant encourages applications for employment from persons who are members of groups that have traditionally been underrepresented based on race, color, national origin, gender, age or disability.

(2) In addition, the Secretary considers the following factors:

• The qualifications, including relevant training and experience, of the project director or principal investigator; and

• The qualifications, including relevant training and experience, of key personnel.

e. Quality of the management plan (10 points).

In determining the quality of the management plan for the proposed project, the Secretary considers the following factors:

• The adequacy of the management plan to achieve the objectives of the proposed project on time and within budget, including clearly defined responsibilities, timelines, and milestones for accomplishing project tasks;

• The adequacy of procedures for ensuring feedback and continuous improvement in the operation of the proposed project;

• The extent to which the time commitments of the project director and other key project personnel are appropriate and adequate to meet the objectives of the proposed project; and

• How the applicant will ensure that a diversity of perspectives are brought to bear in the operation of the proposed project, including those of parents, teachers, the business community, a variety of disciplinary and professional fields, recipients or beneficiaries of services, or others, as appropriate.

f. Quality of the project evaluation (20 points).

In determining the quality of the project evaluation, the Secretary considers the following factors:

• The extent to which the methods of evaluation are thorough, feasible, and appropriate to the goals, objectives, and outcomes of the proposed project;

• The extent to which the methods of evaluation include the use of objective performance measures that are clearly related to the intended outcomes of the project and will produce quantitative and qualitative data to the extent possible;

• The extent to which the methods of evaluation will provide performance feedback and permit periodic assessment of progress toward achieving intended outcomes;

• The extent to which the evaluation will provide guidance about effective strategies suitable for replication or testing in other settings; and

g. Adequacy of resources (15 points).

In determining the adequacy of resources for the proposed project, the Secretary considers the following factors:

• The adequacy of support, including facilities, equipment, supplies and other resources from the applicant organization or the lead applicant organization;

• The relevance and demonstrated commitment of each partner in the proposed project to the implementation and success of the project;

• The extent to which the costs are reasonable in relation to the number of persons to be served and to the anticipated results and benefits; and

• The potential for continued support of the project after Federal funding ends, including, as appropriate, the demonstrated commitment of appropriate entities to such support.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

For this competition, a panel of non-Federal reviewers will review each application in accordance with the selection criteria in 75.217(d)(3)and the competitive preference priorities. The individual scores of the reviewers will be added and the sum divided by the number of reviewers to determine the peer review score received in the review process.

If there are insufficient funds for all applications with the same total scores, the Secretary will choose among the tied applications so as to promote an equitable distribution of grant awards among geographic areas and between urban and rural applicants for the GEAR UP Program.

3. Risk Assessment and Special Conditions: Consistent with 2 CFR 200.205, before awarding grants under this competition the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: The objectives of the GEAR UP Program are—(1) to increase the academic performance and preparation for postsecondary education of participating students; (2) to increase the rate of high school graduation and participation in postsecondary education of participating students; and (3) to increase educational expectations for participating students and increase student and family knowledge of postsecondary education options, preparation, and financing.

The effectiveness of this program depends on the rate at which program participants complete high school and enroll in and complete a postsecondary education. Under the Government Performance and Results Act of 1993, we developed the following performance measures to track progress toward achieving the program's goals:

1. The percentage of GEAR UP students who pass Pre-algebra by the end of 8th grade.

2. The percentage of GEAR UP students who pass Algebra 1 by the end of 9th grade.

3. The percentage of GEAR UP students who take two years of mathematics beyond Algebra 1 by the 12th grade.

4. The percentage of GEAR UP students who are on track for graduation at the end of each grade.

5. The percentage of GEAR UP students who are on track to apply for college as measured by completion of the SAT or ACT by the end of 11th grade.

6. The percentage of GEAR UP students who graduate from high school.

Note: For each GEAR UP project, the State's high school graduation rate is defined in the State's approved accountability plan under Part A of Title I of the Elementary and Secondary Education Act of 1965, as amended.

7. The percentage of GEAR UP students who complete the Free Application for Federal Student Aid.

8. The percentage of GEAR UP students and former GEAR UP students who are enrolled in college.

9. The percentage of GEAR UP students who place into college-level Math and English without need for remediation.

10. The percentage of current GEAR UP students and former GEAR UP students enrolled in college who are on track to graduate college.

In addition, to assess the efficiency of the program, we track the average cost in Federal funds, of achieving a successful outcome, where success is defined as enrollment in postsecondary education of GEAR UP students immediately after high school graduation. These performance measures constitute GEAR UP's indicators of the success of the program. Under Section 1116 of the HEA, grant recipients must collect and report data on steps they have taken toward achieving these goals. Accordingly, we request that applicants include these performance measures in conceptualizing the design, implementation, and evaluation of their proposed projects.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Karmon Simms-Coates, U.S. Department of Education, 400 Maryland Avenue SW., Room 5W250, Washington, DC 20202-6450. Telephone: (202) 453-7917 or by email: Karmon.simms-coates@ed.gov.

If you use a TDD or a TTY, call the FRS, toll free, at 1-800-877-8339.

VIII. Other Information

Accessible Format: Individuals with disabilities can obtain this document and a copy of the application package in an accessible format (e.g., braille, large print, audiotape, or computer disc) on request to the program contact person listed under For Further Information Contact in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at this site.

You may also access documents of the Department published in the Federal Register by using the article search feature at: www.federalregister.gov. Specifically, through the advanced feature at this site, you can limit your search to documents published by the Department.

Dated: March 7, 2017.
Linda Byrd-Johnson,
Acting Deputy Assistant Secretary, Higher Education Programs, and Senior Director, Student Service.

[FR Doc. 2017-04798 Filed 3-9-17; 8:45 am]

BILLING CODE 4000-01-P